DEPARTMENT OF JUSTICE

Federal Bureau of Investigation

Meeting of the Compact Council for the National Crime Prevention and Privacy Compact; Correction

AGENCY: Federal Bureau of Investigation.

ACTION: Notice; Correction.

SUMMARY: The Federal Bureau of Investigation published a document in the Federal Register of April 3, 2012, concerning the date and location of the National Crime Prevention and Privacy Compact Council (Council) created by the National Crime Prevention and Privacy Compact Act of 1998 (Compact). The document listed the wrong street address.

FOR FURTHER INFORMATION CONTACT: Skeeter J. Murray, (304) 625-3518.

Correction in the Federal Register of April 3, 2012, in 77 FR 20051, first column, correct the hotel address line in ADDRESSES to read: 300 East Travis.

Dated: April 10, 2012.
Gary S. Barron,
FBI Compact Officer, Criminal Justice Information Services Division, Federal Bureau of Investigation.

[FR Doc. 2012-9216 Filed 4-16-12; 8:45 am]

BILLING CODE 4410-02-P